DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) will publish periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Evaluation of the Scholarships for Disadvantaged Students (SDS) Program—New

The Scholarships for Disadvantaged Students (SDS) program was established in 1990 to provide financial assistance to health professions and nursing students from disadvantaged backgrounds. A primary tenet of the SDS program is that students who come from disadvantaged backgrounds will be most likely to practice in Medically Underserved Communities (MUCs) after graduation. In this way, the SDS program is working to alleviate health profession and nursing shortages across the country.

The evaluation of this program will include a mail survey directed at graduates of SDS-participating institutions in the fields of allopathic and osteopathic medicine, dentistry, veterinary medicine, optometry, podiatry, pharmacy, nursing, allied health and behavioral and mental health. The survey will be directed at the 1996 graduates of allopathic and osteopathic medicine schools who participated in the SDS program in both 1996 and 2001. The survey will also be directed at the 1999 graduates of dentistry, veterinary medicine, optometry, podiatry, pharmacy, nursing, allied health and behavioral and mental health schools who participated in the SDS program in both 1999 and 2001. The information will identify the place and type of employment for each individual surveyed in order to determine whether or not the individual practiced in a MUC between July 1, 1999, and June 30, 2000. The data collected through this survey will be used to determine whether statistically significant differences exist between the rate at which disadvantaged versus non-disdvantaged individuals and SDS scholarship recipients versus non-recipients practice in MUCs after graduation. These data will also be used to to determine whether differences exist in the rates at which individuals in different health professions work in MUCs. The results will be used to formulate programmatic and policy recommendations designed to strengthen the SDS program and increase its effectiveness.

Type of survey | Number of respondents | Number of responses per respondent | Hours per response | Total burden hours
Graduate Survey | 3750 | 1 | .25 | 937.5

Send comments to Susan G. Queen, Ph.D., HRSA Reports Clearance Officer, Room 14-33, Parklawn Building, 5600 Fishers Lane, Rockville, MD 20857. Written comments should be received within 60 days of this notice.

Dated: December 22, 2000.
Jane M. Harrison,
Director, Division of Policy Review and Coordination.

[FR Doc. 00-33219 Filed 12-28-00; 8:45 am]

BILLING CODE 4160-15-P